SMALL BUSINESS ADMINISTRATION

[Declaration of Disaster #3555]

State of California (Amendment #1)

In accordance with a notice received from the Department of Homeland Security—Federal Emergency Management Agency, effective October 30, 2003, the above numbered declaration is hereby amended to include Riverside County as a disaster area due to damages caused by wildfires occurring on October 21, 2003, and continuing.

All other counties contiguous to the above named primary county have been previously declared.

All other information remains the same, i.e., the deadline for filing applications for physical damage is December 26, 2003, and for economic injury the deadline is July 27, 2004.

(Catalog of Federal Domestic Assistance Program Nos. 59002 and 59008)
Dated: October 31, 2003.
Cheri L. Cannon,
Acting Associate Administrator for Disaster Assistance.

[FR Doc. 03-28110 Filed 11-6-03; 8:45 am]

BILLING CODE 8025-01-P